DEPARTMENT OF HOUSING AND URBAN DEVELOPMENT

[Docket No. FR-5921-N-07]

Implementation of the Privacy Act of 1974, as Amended New System of Records, Choice Neighborhoods Evaluation

AGENCY: Office of Policy Development and Research, HUD.

ACTION: New system of records notice.

SUMMARY: Pursuant to the Privacy Act of 1974 (5 U.S.C. 552a(e)(4)), as amended, notice is hereby given that the Department of Housing and Urban Development (HUD), Office of Policy Development and Research provides public notice regarding its Choice Neighborhoods Evaluation System of Records. This evaluation will study HUD's Choice Neighborhoods program, which is intended to help people living in HUD-assisted housing developments and surrounding distressed neighborhoods improve their quality of life. This study will allow the Department to evaluate the benefits and impacts of the Choice Neighborhoods program, to determine whether it accomplishes its goals, and to inform policymaking decisions. The data sources covered in this notice are gathered from Federal, local, and private databases, and directly from individuals that the program intends to help. A more detailed description of the proposed requirements is contained in the purpose section of this notice.

DATES: Effective Date: The notice will be effective July 13, 2016, unless comments are received that would result in a contrary determination. [Comments due date]: July 13, 2016.

ADDRESSES: Interested persons are invited to submit comments regarding this notice to the Rules Docket Clerk, Office of General Counsel, Department of Housing and Urban Development, 451 Seventh Street SW., Room 10276, Washington, DC 20410. Communications should refer to the above docket number and title. Faxed comments are not accepted. A copy of each communication submitted will be available for public inspection and copying between 8 a.m. and 5 p.m. weekdays at the above address.

FOR FURTHER INFORMATION CONTACT: Frieda B. Edwards, Acting Chief Privacy Officer, 451 Seventh Street SW., Room 10139, Washington, DC 20410, telephone number 202-402-6828 (this is not a toll-free number). Individuals who are hearing- and speech-impaired may access this number via TTY by calling the Federal Relay Service at 800-877-8339 (this is a toll-free number).

SUPPLEMENTARY INFORMATION: The new SORN will encompass data collected by the Department's Office of Policy Development and Research in order to evaluate the Choice Neighborhoods program. The Choice Neighborhoods program supports the implementation of plans that transform distressed HUD housing and address challenges impacting people living in surrounding distressed areas: Boston, Chicago, New Orleans, San Francisco, and Seattle. The new notice states the name and location of the record system, the authority for and manner of its operations, the categories of individuals that it covers, the type of records that it contains, the sources of the information for the records, the routine uses made of the records, and the types of exemptions in place for the records. The notice also includes the business address of the HUD officials who will inform interested persons of how they may gain access to and/or request amendments to records pertaining to themselves. Publication of this notice allows the Department to provide new information about its system of records notices in a clear and cohesive format. The Privacy Act places on Federal agencies principal responsibility for compliance with its provisions, by requiring Federal agencies to safeguard an individual's records against an invasion of personal privacy; protect the records contained in an agency system of records from unauthorized disclosure; ensure that the records collected are relevant, necessary, current, and collected only for their intended use; and adequately safeguard the records to prevent misuse of such information. In addition, this notice demonstrates the Department's focus on industry best practices and laws that protect interest such as personal privacy and privacy protect records from inappropriate release.

Pursuant to the Privacy Act and the Office of Management and Budget (OMB) guidelines, a report of the amended system of records was submitted to OMB, the Senate Committee on Homeland Security and Governmental Affairs, and the House Committee on Oversight and Government Reform, as instructed by paragraph 4c of Appendix l to OMB Circular No. A-130, “Federal Agencies Responsibilities for Maintaining Records About Individuals,” November 28, 2000.

Authority: 5 U.S.C. 552a; 88 Stat. 1896; 42 U.S.C. 3535(d).

Dated: May 10, 2016.
Patricia A. Hoban-Moore,
Senior Agency Official for Privacy.

SYSTEM OF RECORDS NO.:

PD&R/RRE.07

SYSTEM NAME:

Choice Neighborhoods Evaluation.

SYSTEM LOCATION:

Department of Housing and Urban Development, 451 Seventh Street SW., Washington, DC 20410; HUD Data Center, Charleston, West Virginia; Urban Institute, 2100 M Street NW., Washington, DC 20037, and at the location of the service providers under contract with HUD.

CATEGORIES OF INDIVIDUALS COVERED BY THIS SYSTEM:

HUD program participants, and other residents (not assisted by HUD) living in Choice Neighborhoods program cities: Boston, Chicago, New Orleans, San Francisco, and Seattle.

CATEGORIES OF RECORDS IN THE SYSTEM:

The data sets will contain the following categories of records:

• Responses to baseline survey: Include participants name, date of birth, address, phone number, and email address, demographic data, economic characteristics, educational characteristics, health, subjective well-being, and information about the household member living environment, contact information of a family member or friend who could help locate the survey respondent in the future if they move, and unique study identifier assigned to the program participant.

• Responses to follow-up survey: Include participants name, date of birth, address, phone number, and email addresses, demographic data, economic characteristics, educational characteristics, health, subjective well-being, and information about the household member living environment, contact information of a family member or friend who could help locate the survey respondent in the future if they move. The follow-up survey will collect information very similar to the baseline survey, in order to show how the experience of Choice Neighborhoods residents has changed over time, and unique study identifier assigned to the program participant.

• Administrative data: Include data on households available through HUD administrative data, collections will be brought into the dataset directly from HUD's Inventory Management System, including information pertaining to the participating family structure, household size, household income, race and demographics, address, and participation in other HUD programs.

• Locational data: Include data such as the address and location of participating household. These data sets will be drawn from a variety of sources, including the National Change of Address database, proprietary databases such as Accurint, and directly from participating households.

AUTHORITY FOR MAINTENANCE OF THE SYSTEM:

Section 502(g) of the Housing and Urban Development Act of 1970 (Pub. L. 91-609) (12 U.S.C. 1701z-1; 1701z-2(d) and (g)).

PURPOSE(s):

The purpose of the Choice Neighborhoods Evaluation is to track the effects of the Choice Neighborhoods program in the five cities: Boston, Chicago, New Orleans, San Francisco, and Seattle that received implementation grants in 2011. Choice Neighborhoods is meant to transform distressed neighborhoods, with a focus on HUD assisted developments (public housing or project-based section 8). This transformation is intended to help the people living in the targeted developments and surrounding distressed neighborhoods improve their quality of life. The evaluation will track the experiences of a statistical sample of individuals living in five Choice Neighborhoods sites, to determine whether the program improves their quality of life in a variety of dimensions, including employment, education, health, and subjective well-being. This analysis will inform HUD leadership, policymakers, and HUD partners that implement community development programs. The data collected for the Choice Neighborhood Evaluation will be used and stored solely for research purposes, and will not be used to identify individuals or make decisions that affect the rights, benefits, or privileges of specific individuals. The data in this system will include location data, which will be used to analyze the neighborhoods in which people affected by the initiative live. The data in the system will also include information about household composition, income, education, and many quality of life measures, which will be used to analyze the extent to which people's lives are being improved by the Choice Neighborhoods Program. The data in this system will be analyzed using statistical methods and only reported in the aggregate. Resulting reports will not disclose or identify any individuals or sensitive personal information. The Choice Neighborhoods Evaluation is in direct service of the mission of HUD's Office of Policy Development and Research, which is to “inform policy development and implementation to improve life in American communities through conducting, supporting, and sharing research, surveys, demonstrations, program evaluations, and best practices.”

ROUTINE USE OF RECORDS MAINTAINED IN THE SYSTEM, INCLUDING CATEGORIES OF USERS AND THE PURPOSES OF SUCH USES:

In addition to those disclosures generally permitted under 5 U.S.C. 552a(b) of the Privacy Act, HUD may disclose information contained in this system of records:

(1) To a recipient who has provided the agency with advance, adequate written assurance that the record provided from this system of records will be used solely for statistical research or reporting purposes. Records under this condition will be disclosed or transferred in a form that does not identify an individual.

(2) To contractors, grantees, experts, consultants, Federal agencies, and non-Federal entities, including, but not limited to, State and local governments, and other research institutions or their parties, and entities and their agents with whom HUD has a contract, service agreement, grant, or cooperative agreement, when necessary to accomplish an agency function, related to this system of records for the purposes of statistical analysis and research in support of program operations, management, performance monitoring, evaluation, risk management, and policy development, or to otherwise support the Department's mission. Records under this routine use may not be used in whole or in part to make decisions that affect the rights, benefits or privileges of specific individuals. The results of the matched information may not be disclosed in identifiable form.

(3) To appropriate agencies, entities, and persons when:

(a) HUD suspects or has confirmed that the security or confidentiality of information in a system of records has been compromised;

(b) HUD has determined that as a result of the suspected or confirmed compromise, there is a risk of harm to economic or property interests, identity theft, or fraud, or harm to the security or integrity of systems or programs (whether maintained by HUD or another agency or entity) that rely upon the compromised information; and

(c) The disclosure made to such agencies, entities, and persons is reasonably necessary to assist in connection with HUD's efforts to respond to the suspected or confirmed compromise and prevent, minimize, or remedy such harm for purposes of facilitating responses and remediation efforts in the event of a data breach.

(4) Appropriate agencies, entities, and persons to the extent such disclosures are compatible with the purpose for which the records in this system were collected, as set forth by Appendix I, HUD's Routine Use Inventory notice ¹ published in the Federal Register.

¹ http://portal.hud.gov/hudportal/documents/huddoc?id=routine_use_inventory.pdf.

POLICIES AND PRACTICES FOR STORING, RETRIEVING, ACCESSING, RETAINING, AND DISPOSING OF RECORDS IN THE SYSTEM:

STORAGE: Records are stored on secure servers administered by HUD's Office of Policy Development and Research, and on secure servers administered by the Urban Institute under contract with HUD. There are no paper-based records associated with this study.

RETRIEVABILITY: Records will be retrieved by a unique study identifier.

SAFEGUARDS: Access to any server, security, storage, backup, and infrastructure equipment is monitored, restricted to only those with a need-to-have system access, including being secured by administrative password and authentication methods. All system users are required to sign a confidentiality pledge to abide by corporate policies and by HUD policies.

RETENTION AND DISPOSAL: Records (Electronic data) files are maintained in accordance with HUD Records Disposition Schedule 67.9.b and 67.9.f.² The records will be retained for a minimum of 10 years then archived. As such, when projects are satisfactorily closed and records are no longer needed for administrative purposes, the records will be destroyed when the destruction date is reached. Manual records are destroyed by shredding or burn; electronic records are destroyed in accordance with HUD's IT Security Handbook 2400.25, Section 4.7.6 ³. Electronic records will be stored on HUD data servers in Charleston, WV.

² http://portal.hud.gov/hudportal/documents/huddoc?id=22256x67ADMH.pdf.

³ http://portal.hud.gov/hudportal/documents/huddoc?id=240025CIOH.pdf.

SYSTEM MANAGER(S) AND ADDRESS:

Director, Division of Program Evaluation, Department of Housing and Urban Development, Office of Policy Development and Research, 451 Seventh Street SW., Room 8120, Washington, DC 20410.

NOTIFICATION AND RECORD ACCESS PROCEDURES:

For Information, assistance, or inquiries about the existence of records contact, Frieda B. Edwards, Acting Chief Privacy Officer, 451 Seventh Street SW., Room 10139, Washington, DC 20410, telephone number 202-402-6828. When seeking records about yourself from this system of records or any other HUD system of records, your request must conform to the Privacy Act regulations set forth in 24 CFR part 16. You must first verify your identity by providing your full name, current address, and date and place of birth. You must sign your request, and your signature must either be notarized or submitted under 28 U.S.C. 1746, a law that permits statements to be made under penalty of perjury as a substitute for notarization. In addition, your request should:

a. Explain why you believe HUD would have information on you.

b. Identify which office of HUD you believe has the records about you.

c. Specify when you believe the records would have been created.

d. Provide any other information that will help the Freedom of Information Act (FOIA) staff determine which HUD office may have responsive records.

If your request is seeking records pertaining to another living individual, you must obtain a statement from that individual certifying their agreement for you to access their records. Without the above information, the HUD FOIA office may not be able to conduct an effective search, and your request may be denied due to lack of specificity or lack of compliance with applicable regulations.

CONTESTING RECORD PROCEDURES:

The Department's rules for contesting contents of records and appealing initial denials appear in 24 CFR part 16.3, “Procedures for inquiries.” Additional assistance may be obtained by contacting Frieda B. Edwards, Acting Chief Privacy Officer, 451 Seventh Street SW., Room 2130, Washington, DC 20410, or the HUD Departmental Privacy Appeals Officer, Office of General Counsel, Department of Housing and Urban Development, 451 Seventh Street SW., Room 10110, Washington, DC 20410.

RECORD SOURCE CATEGORIES:

(1) Baseline survey, collected directly from individuals who have agreed to participate in the study, (2) follow up survey, collected directly from individuals who have agreed to participate in the study, (3) administrative data derived from HUD IMS system, and (4) Locational data from non-federal proprietary databases.

SYSTEMS EXEMPTED FROM CERTAIN PROVISIONS OF THE ACT:

None.

[FR Doc. 2016-13942 Filed 6-10-16; 8:45 am]

BILLING CODE 4210-67-P